DEPARTMENT OF COMMERCE

United States Patent and Trademark Office

Secrecy/License To Export

ACTION: Proposed collection; comment request.

SUMMARY: The United States Patent and Trademark Office (USPTO), as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 20, 2000.

ADDRESSES: Direct all written comments to Thao P. Nguyen, Acting Records Officer, Office of Data Management, Data Administration Division, USPTO, Suite 310, 2231 Crystal Drive, Washington, DC 20231, by telephone (703) 308-7397.

FOR FURTHER INFORMATION CONTACT: Requests for additional information should be directed to Robert J. Spar, United States Patent and Trademark Office (USPTO), Washington, DC 20231, by telephone number (703) 305-9285.

SUPPLEMENTARY INFORMATION

I. Abstract

In the interest of national security, patent laws and rules place certain limitations on the disclosure of information contained in patents and patent applications and on the filing of applications for patents in foreign countries. The USPTO collects information to determine whether the patent laws and rules have been complied with, and to grant or revoke licenses to file abroad when appropriate. This collection of information is required by 35 USC 181-188 and administered through 37 CFR Ch. 1, part 5, 5.1-5.33.

II. Method of Collection

By mail, facsimile, or hand carry when the applicant or agent files a patent application with the USPTO, submits subsequent papers during the prosecution of the application to the USPTO, or submits a request for a foreign filing license for a patent application to be filed abroad before the filing of a United States patent application.

III. Data

OMB Number: 0651-0034.

Form Number(s): N/A.

Type of Review: Extension of a currently approved collection.

Affected Public: Individuals or households; business or other for profit; not-for-profit institutions; farms; Federal Government; and state, local or tribal Government.

Estimated Number of Respondents: 1,858 total responses per year. Of this total, 2 per year for permit to disclose or modify secrecy order; 4 per year for petition for rescission of secrecy order; 0 per year for general and group permits; 1,625 per year for petition for foreign filing license without a corresponding application on file; 128 per year for petition for foreign filing license on a corresponding application on file; and 99 per year for a petition for retroactive license.

Estimated Time Per Response: It is estimated to take 2.0 hours for permit to disclose or modify secrecy order; 3.0 hours for permit for rescission of secrecy order; 1.0 hours for general and group permits; 0.5 hours each for foreign filing license: petition for foreign filing license without a corresponding United States application, and petition for license with a corresponding United States patent; and 4.0 hours for a petition for retroactive license.

Estimated Total Annual Respondent Burden Hours: 1,289 hours per year.

Estimated Total Annual Respondent Cost Burden: $0 (no capital start-up or maintenance expenditures are required). Using the professional hourly rate of $175 for associate attorneys in private firms, the USPTO estimates $225,575 per year for salary costs associated with respondents.

Item | Estimated time for response (HOURS) | Estimated annual burden hours | Estimated annual responses
Permit to Disclose or Modify Secrecy Order | 2 | 4 | 2
Permit for Rescission of Secrecy Order | 3 | 12 | 4
General and Group Permits | 1 | 0 | 0
Foreign Filing License: Petition for License no corresponding patent application | 0.5 | 813 | 1,625
Foreign Filing License: Petition for License for corresponding patent application | 0.5 | 64 | 128
Petition for Retroactive License | 4 | 396 | 99
Totals |  | 1,289 | 1,858

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: August 15, 2000.
Thao P. Nguyen,
Acting Records Officer, Office of Data Management, Data Administration Division.

[FR Doc. 00-21202 Filed 8-18-00; 8:45 am]

BILLING CODE 3510-16-P